DEPARTMENT OF JUSTICE

Office of Justice Programs

[OMB Number 1121-0147]

Agency Information Collection Activities; Proposed Collection, Comments Requested: Reinstatement, With Change, of a Previously Approved Collection for Which Approval Has Expired; 2012-2013 Census of State and Federal Adult Correctional Facilities

ACTION: 60-day notice of information collection under review.

The Department of Justice (DOJ), Bureau of Justice Statistics will be submitting the following information collection request to the Office of Management and Budget (OMB) for review and approval in accordance with the Paperwork Reduction Act of 1995. The proposed information collected is published to obtain comments from the public and affected agencies. Comments are encouraged and will be accepted for “sixty days” until December 30, 2011. This process is conducted in accordance with 5 CFR 1320.10.

If you have comments, especially on the estimated public burden or associated response time, suggestions, or need a copy of the proposed information collection instrument with instructions or additional information, please contact Tracy L. Snell or James J. Stephan, Statisticians, Bureau of Justice Statistics, Office of Justice Programs, U.S. Department of Justice, 810 Seventh Street NW., Washington, DC 20531 (phone: (202) 307-0765).

Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility and clarity of the information to be collected; and

—Minimize the burden of the collection of information on those who are to respond, including through the use of appropriate automated, electronic, mechanical, or other technological collection techniques or other forms of information technology, e.g. permitting electronic submission of responses.

Overview of This Information Collection

(1) Type of information collection: Reinstatement, with change, of a previously approved collection for which approval has expired.

(2) Title of the Collection: 2012-2013 Census of State and Federal Adult Correctional Facilities.

(3) Agency form number, if any, and the applicable component of the Department of Justice sponsoring the collection: Form Numbers: CJ-43A Individual Facility List; CJ-43B: Individual Facility Information; and CJ-43 Census of State and Federal Adult Correctional Facilities (under development; this form will be submitted in a substantive change package when the materials are ready for review). Corrections Statistics Unit, Bureau of Justice Statistics, Office of Justice Programs, United States Department of Justice.

(4) Affected public who will be asked to respond, as well as a brief abstract: Primary: State Departments of Corrections authorities. Others: Authorities from the Federal Bureau of Prisons and administrators of privately-operated prison facilities. The Census of State and Federal Correctional Facilities obtains information on individual facilities designed to house adults sentenced to confinement by State, Federal, or District of Columbia courts. These facilities include prisons, penitentiaries, and correctional institutions; boot camps; prison farms; reception, diagnostic, and classification centers; road camps; forestry and conservation camps; youthful offender facilities (except in California); vocational training facilities; prison hospitals; drug and alcohol treatment facilities; prerelease centers; halfway houses; and State-operated local detention facilities.

The CJ-43A, Facility Roster: An estimated 71 respondents from state departments of correction, the Federal Bureau of Prisons, and corporations operating private prisons will be provided with a list of facilities in their jurisdictions (CJ-43A). Respondents will be asked to provide the information requested in the CJ-43B (see below) for each individual facility in their jurisdiction. Respondents can opt to use this listing to aid them in identifying individual facilities in operation on March 31, 2012, the anticipated survey reference date, or they can opt to provide the information based on a list of facilities generated through their own data systems. The CJ-43A is intended to be used as an aid and is not intended as an instrument to be filled out, so there is no burden associated with this instrument.

The CJ-43B collection instrument: An estimated 71 respondents from state departments of correction, the Federal Bureau of Prisons, and corporations operating private prisons will be asked to provide basic facility information for an estimated 2,200 adult correctional facilities. The CJ-43B identifies the elements to be collected for each facility. These items include name and location of the facility, sex of inmates housed, physical security of the facility, percentage of inmates regularly permitted to leave the facility unaccompanied, a one-day count of inmates by sex, and future plans to modify or close the facility. Based on the preference of the respondent, these data can be submitted via an electronic datafile generated from the respondent's information management system or via individual forms for each facility. The Bureau of Justice Statistics will use information obtained from the CJ-43B to develop a sampling frame for future inmate surveys as well as to respond to queries from the U.S. Congress, Executive Office of the President, the U.S. Supreme Court, state officials, international organizations, researchers, students, the media, and others seeking facility-level statistics.

The CJ-43: Respondents from state departments of correction, the Federal Bureau of Prisons, and corporations operating private prisons will be asked to provide detailed facility information for an estimated 2,200 facilities in operation. This collection instrument is under development, but is expected to include items regarding facility characteristics, such as facility functions, capacity, and court orders or consent decrees under which facilities are operating; population characteristics, including special populations housed; staff characteristics; measures of facility security; and facility programs. BJS expects to consult with corrections experts and professionals to determine other topical items to be included in this collection. These statistics will provide a snapshot of adult correctional institutions in the United States and will be used to respond to queries from administrators, legislators, researchers, and planners to track changes in the numbers and types of facilities in operation, changes in staffing, security issues, and programs/services available to inmates in the state and federal correctional systems. A supplemental approval will be submitted to OMB when the materials are ready for review.

(5) An estimate of the total number of respondents and the amount of time estimated for an average respondent to respond: 2,200 responses at 15 minutes each for the CJ-43B. The estimated time is based on feedback from state and federal corrections department staff. The total burden estimate is based on the conservative assumption that all respondents would submit separate forms for each facility; however, it is expected that the majority of respondents will choose to submit a single electronic file generated from their information management systems. The CJ-43 is still in the planning stages. A supplemental approval and burden adjustment will be sought through OMB when the materials are ready for review.

(6) An estimate of the total public burden (in hours) associated with the collection: There are an estimated 550 annual total burden hours associated with the collection.

If additional information is required contact: Mrs. Jerri Murray, Department Clearance Officer, United States Department of Justice, Justice Management Division, Policy and Planning Staff, Two Constitution Square, 145 N Street NE., Suite 2E-508, Washington, DC 20530.

Jerri Murray,
Department Clearance Officer, PRA, U.S. Department of Justice.

[FR Doc. 2011-28007 Filed 10-28-11; 8:45 am]

BILLING CODE 4410-18-P